DEPARTMENT OF COMMERCE

National Oceanic and Atmospheric Administration

[RTID 0648-XA268]

New England Fishery Management Council; Public Hearings

AGENCY: National Marine Fisheries Service (NMFS), National Oceanic and Atmospheric Administration (NOAA), Commerce.

ACTION: Notice of public hearings.

SUMMARY: The New England Fishery Management Council is convening public hearings of Draft Amendment 21 to the Atlantic Sea Scallop Fishery via webinar to consider actions affecting New England fisheries in the exclusive economic zone (EEZ). Recommendations from this group will be brought to the full Council for formal consideration and action, if appropriate.

DATES: These webinars will be held on: August 5, 2020; August 12, 2020; August 27, 2020 and September 2, 2020.

ADDRESSES: All meeting participants and interested parties can register below for each webinar individually.

1. Wednesday, August 5, 2020, from 6 to 8 p.m. https://attendee.gotowebinar.com/register/7818807912946784783 Call in information: +1 (415) 655-0060; Access Code: 419-861-768

2. Wednesday, August 12, 2020, from 4 to 6 p.m. https://attendee.gotowebinar.com/register/4664837917950475279 Call in information: +1 (562) 247-8422; Access Code: 209-302-952

3. Thursday, August 27, 2020, from 4 to 6 p.m. https://attendee.gotowebinar.com/register/6166327698306522895 Call in information: +1 (562) 247-8422; Access Code: 330-712-984

4. Wednesday, September 2, 2020, from 6 to 8 p.m. https://attendee.gotowebinar.com/register/8244825787756617743 Call in information: +1 (415) 930-5321; Access Code: 487-066-105

Meeting address: The meetings will be held via webinar.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: Public comments: Public comment deadline is September 4, 2020. Comments may be submitted via email to comments@nefmc.org with “Atlantic Sea Scallop Amendment 21 Public Hearing Comment” in the subject line or mailed to Thomas A. Nies, Executive Director, New England Fishery Management Council, 50 Water Street, Mill #2, Newburyport, MA 01950. Mark the outside of the envelope “Atlantic Sea Scallop Amendment 21 Public Hearing Comment”. Comments may also be sent via fax to (978) 465-3116.

Agenda

Council staff will brief the public on Draft Amendment 21 before receiving comments on the amendment. The hearing will begin promptly at the time indicated above. If all attendees who wish to do so have provided their comments prior to the end time indicated, the hearing may conclude early. To the extent possible, the Council may extend hearings beyond the end time indicated above to accommodate all attendees who wish to speak. Scheduling of hearings is ongoing due to the COVID-19 pandemic. Additional hearings will be announced in a separate notice.

Although non-emergency issues not contained on the agenda may come before this Council for discussion, those issues may not be the subject of formal action during these meetings. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: July 13, 2020.
Tracey L. Thompson,
Acting Deputy Director, Office of Sustainable Fisheries, National Marine Fisheries Service.

[FR Doc. 2020-15421 Filed 7-16-20; 8:45 am]

BILLING CODE 3510-22-P